ENVIRONMENTAL PROTECTION AGENCY

[EPA-HQ-OAR-2011-0742; FRL—11599-01-OAR]

Information Collection Request; Comment Request; Air Pollution Regulations for Outer Continental Shelf (OCS) Activities

AGENCY: Environmental Protection Agency (EPA).

ACTION: Notice.

SUMMARY: The Environmental Protection Agency (EPA) is planning to submit an information collection request (ICR), “Air Pollution Regulations for Outer Continental Shelf (OCS) Activities” (EPA ICR No. 1601.10, OMB Control No. 2060-0249), to the Office of Management and Budget (OMB) for review and approval in accordance with the Paperwork Reduction Act (PRA). Before doing so, the EPA is soliciting public comments on specific aspects of the proposed information collection as described below. This is a proposed renewal of the ICR, which is currently approved through May 31, 2024. An Agency may not conduct or sponsor, and a person is not required to respond to, a collection of information unless it displays a currently valid OMB control number.

DATES: Comments must be submitted on or before April 8, 2024.

ADDRESSES: Submit your comments, referencing Docket ID No. EPA-HQ-OAR-2011-0724, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information or other information whose disclosure is restricted by statute.

FOR FURTHER INFORMATION CONTACT: Ben Garwood, Air Quality Policy Division, Office of Air Quality Planning and Standards, C504-03, U.S. Environmental Protection Agency, Post Office Box 12055, Research Triangle Park, NC 27711; telephone number: (919) 541-1358; fax number: (919) 541-4028; email address: garwood.ben@epa.gov.

SUPPLEMENTARY INFORMATION: Supporting documents which explain in detail the information that the EPA will be collecting are available in the public docket for this ICR. The docket can be viewed online at https://www.regulations.gov or in person at the EPA Docket Center, WJC West, Room 3334, 1301 Constitution Ave. NW, Washington, DC. The telephone number for the Docket Center is (202) 566-1744. For additional information about EPA's public docket, visit https://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: Section 328 of the Clean Air Act (CAA) gives the EPA responsibility for regulating air pollution from OCS sources located offshore of the states along the Atlantic and Pacific Coasts (except the North Slope Borough of Alaska), and along the eastern Gulf of Mexico coast (off the coast of Florida). In general, these OCS sources must obtain OCS permits complying with the EPA's preconstruction permit program (usually Prevention of Significant Deterioration (PSD) requirements) and title V operating permit program, and then maintain ongoing compliance with their permit conditions. Industry respondents include owners or operators of existing and new or modified OCS sources. These respondents must prepare permit applications and, after receiving their permits, conduct testing, monitoring, recordkeeping and reporting as required by their permits. The recordkeeping and reporting requirements are necessary so that the EPA can determine whether these sources are meeting all the requirements that apply to them. The EPA has delegated the authority to implement and enforce the OCS regulations to four local air pollution control agencies in California (Santa Barbara County Air Pollution Control District (SBCAPCD), South Coast Air Quality Management District (SCAQMD), Ventura County Air Pollution Control District (VCAPCD) and San Luis Obispo County Air Pollution Control District (SLOCAPCD)). The EPA has also delegated the authority to implement and enforce the OCS regulations for sources located off the coast to 3 state air pollutions control agencies: Delaware (DDNREC), Maryland (MDE), and Virginia (VDEQ). These agency respondents must review sources' permit applications and reports, issue permits, observe performance tests and conduct inspections to ensure that the sources off their coasts are meeting all the requirements that apply to them. Section 176(c) of the CAA (42 U.S.C. 7401 et seq.) requires that all federal actions conform with the State Implementation Plans to attain and maintain the National Ambient Air Quality Standards.

Depending on the type of action, the federal entities must collect information themselves, hire consultants to collect the information or require applicants/sponsors of the federal action to provide the information.

The type and quantity of information required will depend on the circumstances surrounding the action. First, the entity must make an applicability determination. If the source is located within 25 miles of the state's seaward boundary (Inner OCS) as established in the regulations, the requirements are the same as those that would be applicable if the source were located in the corresponding onshore area (COA). Sources locating beyond 25 nautical miles from the state seaward boundary (Outer OCS) are subject to federal air quality requirements which could include the EPA's PSD preconstruction permit program, Part 71 Title V operating permit program, New Source Performance Standards and some standards for Hazardous Air Pollutants promulgated under section 112 of the CAA. State and local air pollution control agencies are usually requested to provide information concerning regulation of offshore sources and are provided opportunities to comment on the proposed determinations. The public is also provided an opportunity to comment on the proposed determinations.

Form numbers: None.

Respondents/affected entities: Entities potentially affected by this action are those that must apply for and obtain an OCS permit pursuant the OCS permit program. In addition, state and local agencies that have been delegated authority to implement and enforce the OCS permit program, which must review permit applications and issue permits, are affected entities.

Respondent's obligation to respond: Mandatory [see 40 CFR part 55].

Estimated number of respondents: 74 industrial facilities and 7 state and local permitting agencies.

Frequency of response: On occasion, as necessary.

Total estimated burden: 36,001 hours (per year). Burden is defined at 5 CFR 1320.03(b).

Total estimated cost: $3,755,783.00 (per year) in addition to $55,268.00 annually in Operation and Maintenance costs and $325,104.00 in capital costs.

Changes in estimates: There is a projected increase of 15,778 hours in the total estimated respondent burden compared with the ICR most recently approved by OMB. This increase is primarily due the projected number of OCS sources subject to the program mainly related to alternative energy sources including new wind power farms along the eastern seaboard of the United States, and changes to burden estimates as noted in the excel spreadsheet in the docket for this notice titled “1601t10 Draft OCS ICR Burden Calculations 2024.”

Scott Mathias,
Director, Air Quality Policy Division.

[FR Doc. 2024-02613 Filed 2-7-24; 8:45 am]

BILLING CODE 6560-50-P